NATIONAL SCIENCE FOUNDATION

Notice of Permit Modification Received Under the Antarctic Conservation Act of 1978 (Pub. L. 95-541)

AGENCY: National Science Foundation.

ACTION: Notice of permit modification request Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by December 20, 2013. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Polly Penhale, Environmental Officer, at the above address or ACApermits@nsf.gov or (703) 292-7420

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2012-WM-001) to George Watters on September 29, 2011. The issued permit allows the applicant to operate a small research camp within ASPA 128 (Western Shore of Admiralty Bay) and properly handle waste associated with the field camp. Up to six researchers at a time would conduct biological studies on the nearby penguin colonies. Wastes generated as part of research operations or camp activities include air emissions (from fuel combustion), metal bird bands, radio transmitters (including batteries) and wastewater. All of these wastes would be handled in accordance with the Protocol on Environmental Protection to the Antarctic Treaty and would be disposed of properly

Now the applicant proposes a modification to his permit to allow for deploying up to 10 cameras to monitor the penguin colonies. The cameras would be deployed for the duration of the permit, including the intervening winter seasons. The cameras would allow for year-round time lapse photographic monitoring and research. The cameras are powered by 12 lithium ion AA batteries and would be mounted on aluminum poles; the poles would be anchored at ground level in a simple rock-basket enclosed in wire mesh. Additionally, the applicant plans to deploy up to two (2) custom made time-lapse systems developed by the Australian Antarctic Division. These systems are solar powered 35mm Canon digital SLRs, housed in modified Pelican cases and mounted on sturdy tripods with ground-level rock anchors. The surface anchors for both systems are designed to minimize disturbance on shallow soils near penguin colonies. Each system would be maintained, repositioned, replaced, and/or removed, from the field, as necessary, to continue providing high-quality images of penguin colonies for periods up to 12 months. Cameras would be completely removed from the area upon permit expiration unless a renewal for their continued use is granted.

Successful deployment of the cameras would allow research on the penguin colonies to continue in the absence of researchers at the campsite.

Location: ASPA 128 Western Shore of Admiralty Bay.

Dates: November 25, 2013 to March 15, 2016.

Nadene G. Kennedy,
Polar Coordination Specialist, Division of Polar Programs.

[FR Doc. 2013-27678 Filed 11-19-13; 8:45 am]

BILLING CODE 7555-01-P